DEPARTMENT OF DEFENSE

Office of the Secretary

Meeting of the Department of Defense Military Family Readiness Council (MFRC); Cancellation of October 18, 2013 Meeting

AGENCY: Department of Defense.

ACTION: Notice of federal advisory committee meeting; cancellation.

SUMMARY: On Tuesday, September 3, 2013 (78 FR 54244), the Department of Defense published a notice announcing a meeting of the Military Family Readiness Council (MFRC) that was to take place on Friday, October 18, 2013. The meeting of October 18, 2013 was cancelled.

FOR FURTHER INFORMATION CONTACT: Ms. Melody McDonald or Ms. Betsy Graham, Office of the Deputy Assistant Secretary of Defense (Military Community & Family Policy), 4800 Mark Center Drive Alexandria, VA 22350-2300, Room 3G15. Telephones (571) 372-0880; (571) 372-0881 and/or email: OSD Pentagon OUSD P-R Mailbox Family Readiness Council, osd.pentagon.ousd-p-r.mbx.family-readiness-council@mail.mil.

SUPPLEMENTARY INFORMATION: Due to the lapse of appropriations, the Department of Defense cancelled the meeting of the Department of Defense Military Family Readiness Council on October 18, 2013. As a result, the Department of Defense was unable to provide appropriate notification as required by 41 CFR 102-3.150(a). Therefore, the Advisory Committee Management Officer for the Department of Defense, pursuant to 41 CFR 102-3.150(b), waives the 15-calendar day notification requirement.

Dated: October 18, 2013.
Aaron Siegel,
Alternate OSD Federal Register Liaison Officer, Department of Defense.

[FR Doc. 2013-24907 Filed 10-23-13; 8:45 am]

BILLING CODE 5001-06-P